DEPARTMENT OF ENERGY

Federal Energy Regulatory Commission

[Docket No. EL00-112-000, et al.]

Bangor Hydro-Electric Company, et al.; Electric Rate and Corporate Regulation Filings

September 20, 2000.

Take notice that the following filings have been made with the Commission:

1. Bangor Hydro-Electric Company, Complainant v. ISO New England, Inc., Respondent.

[Docket No. EL00-112-000]

Take notice that on September 19, 2000, Bangor Hydro-Electric Company (Bangor Hydro), tendered for filing a complaint in which Bangor Hydro petitions the Commission for an order directing ISO New England, Inc. (ISO-NE) to restate the $6,000/MWh Energy Clearing Price for hours 14 through 17 and $2,870/MWh Energy Clearing Price for hour 13 on May 8, 2000 to reflect the seller's actual marginal costs instead of the $6,000/MWh and $2,870/MWh bids used to calculate the Energy Clearing Price for these hours.

Comment date: October 10, 2000, in accordance with Standard Paragraph E at the end of this notice. Answers to the compliant shall also be filed on or before October 10, 2000.

2. New York State Electric & Gas Corporation

[Docket No. ER97-2353-004]

Take notice that on September 15, 2000, New York State Electric & Gas Corporation (NYSEG), tendered for filing revisions to its Open Access Transmission Tariff and revisions to certain other rate schedules to comply with the order issued by the Federal Energy Regulatory Commission (FERC) in the above-captioned dockets on August 17, 2000.

Copies of the filing have been served on all parties listed on the official service list maintained by the Secretary of FERC.

Comment date: October 6, 2000, in accordance with Standard Paragraph E at the end of this notice.

3. Duke Energy South Bay LLC

[Docket Nos. ER98-496-012, ER98-2160-010]

Take notice that on September 15, 2000, Duke Energy South Bay, LLC tendered for filing a revised compliance report regarding refunds as required by the Commission's Order issued August 1, 2000 approving the Final Offer of Settlement filed in the above-captioned proceeding on March 31, 2000.

Comment date: October 6, 2000, in accordance with Standard Paragraph E at the end of this notice.

4. ISO New England Inc.

[Docket No. ER00-749-003]

Take notice that on September 14, 2000, ISO New England Inc. tendered for filing with the Commission information regarding Market Rule 15 corrective actions for the period from March 22, 2000 through September 2, 2000 in the above-referenced proceeding for informational purposes only. This filing is available for public inspection and copying in the Public Reference Room or on the web at www.ferc.fed.us/ online/rims.htm for viewing and downloading (call 202-208-2222 for assistance).

Comment date: October 5, 2000, in accordance with Standard Paragraph E at the end of this notice.

5. New York Independent System Operator, Inc.

[Docket No. ER00-3215-001]

Take notice that on September 15, 2000, the New York Independent System Operator, Inc. (NYISO) filed a Revision to Procedures Governing Auctions of Transmission Congestion Contracts and proposed tariff changes related thereto.

The NYISO has requested an effective date of August 20, 2000 for the proposed tariff changes, and has requested waiver of the Commission's notice requirements.

A copy of this filing was served upon all parties who have executed Service Agreements under the ISO OATT, the parties in Docket No. ER00-3215, and the regulatory commissions in New York, New Jersey, and Pennsylvania.

Comment date: October 6, 2000, in accordance with Standard Paragraph E at the end of this notice.

6. FirstEnergy Operating Companies

[Docket No. ER00-3239-001]

Take notice that on September 15, 2000, Cleveland Electric Illuminating Company, Ohio Edison Company, Pennsylvania Power Company and Toledo Edison Company (collectively, the FirstEnergy Operating Companies) tendered for filing revisions to a Generating Interconnection and Operating Agreement with Mid-Atlantic Energy Development Company (Mid-Atlantic) (the Interconnection Agreement). The FirstEnergy Operating Companies state that the revision is designed to clarify the obligation of Mid-Atlantic to pay for Generator Imbalance Service.

Comment date: October 6, 2000, in accordance with Standard Paragraph E at the end of this notice.

7. PPL Electric Utilities Corporation

[Docket No. ER00-3265-001]

Take notice that on September 14, 2000, PPL Electric Utilities Corporation (PPL) tendered for filing an amended Interconnection Agreement between PPL and International Paper Corporation.

Comment date: October 5, 2000, in accordance with Standard Paragraph E at the end of this notice.

8. New England Power Pool

[Docket No. ER00-3682-000]

Take notice that on September 15, 2000, the New England Power Pool (NEPOOL) Participants Committee submitted changes to Market Rules 1, 2, 3, 5, 14, 20 and related Appendices which allow for the automation of the real-time Dispatch function through the implementation of electronic Dispatch instructions within the NEPOOL Control Area.

A December 5, 2000 effective date has been requested.

The NEPOOL Participants Committee states that copies of these materials were sent to the New England state governors and regulatory commissions and the Participants in the New England Power Pool.

Comment date: October 5, 2000, in accordance with Standard Paragraph E at the end of this notice.

9. Cinergy Services, Inc.

[Docket No. ER00-3687-000]

Take notice that on September 15, 2000, Cinergy Services, Inc. (Cinergy), tendered for filing a Service Agreement under Cinergy's Resale, Assignment or Transfer of Transmission Rights and Ancillary Service Rights Tariff (the Tariff) entered into between Cinergy and Cargill-Alliant, LLC (Cargill). The Service Agreement has been executed by both parties and is to replace the existing unexecuted Service Agreement.

Comment date: October 6, 2000, in accordance with Standard Paragraph E at the end of this notice.

10. American Electric Power Service Corporation

[Docket No. ER00-3688-000]

Take notice that on September 15, 2000, the American Electric Power Service Corporation (AEPSC), tendered for filing executed Interconnection and Operation Agreement between Appalachian Power Company and Wolf Hills Energy, LLC. The agreement is pursuant to the AEP Companies' Open Access Transmission Service Tariff (OATT) that has been designated as the Operating Companies of the American Electric Power System FERC Electric Tariff Revised Volume No. 6, effective June 15, 2000.

AEP requests an effective date of August 2, 2000.

A copy of the filing was served upon the Public Service Commission of Virginia.

Comment date: October 6, 2000, in accordance with Standard Paragraph E at the end of this notice.

11. Illinois Power Company

[Docket No. ER00-3689-000]

Take notice that on September 15, 2000, Illinois Power Company (Illinois Power), 500 South 27th Street, Decatur, Illinois 62526, tendered for filing firm and non-firm transmission agreements under which Public Service Company of Colorado will take transmission service pursuant to its open access transmission tariff. The agreements are based on the Form of Service Agreement in Illinois Power's tariff.

Illinois Power has requested an effective date of September 15, 2000.

Comment date: October 6, 2000, in accordance with Standard Paragraph E at the end of this notice.

12. PacifiCorp

[Docket No. ER00-3690-000]

Take notice that on September 15, 2000, PacifiCorp, tendered for filing in accordance with 18 CFR 35 of the Commission's Rules and Regulations, a Notice of Filing Mutual, and a Netting/Closeout Agreement (Netting Agreement) between PacifiCorp and the City of Anaheim, California (Anaheim).

Copies of this filing were supplied to the Washington Utilities and Transportation Commission and the Public Utility Commission of Oregon.

Comment date: October 6, 2000, in accordance with Standard Paragraph E at the end of this notice.

13. Citizens Power Sales, LLC

[Docket No. ER00-3692-000]

Take notice that on September 13, 2000, Citizens Power Sales, LLC tendered for filing Notice of Succession effective September 1, 2000 regarding FERC Rate Schedule No. 1, filed in Docket No. ER94-1685-000.

Comment date: October 4, 2000, in accordance with Standard Paragraph E at the end of this notice.

14. Puget Sound Energy, Inc. [Docket No. ER00-3693-000]

Take notice that on September 15, 2000, Puget Sound Energy, Inc., tendered for filing a Netting Agreement with Portland General Electric Company (PGE).

A copy of the filing was served upon PGE.

Comment date: October 6, 2000, in accordance with Standard Paragraph E at the end of this notice.

15. PPL Montana, LLC

[Docket No. ER00-3694-000]

Take notice that on September 15, 2000, PPL Montana, LLC (PPL Montana), tendered for filing a Service Agreement dated August 22, 2000 with Utah Municipal Power Agency (UMPA) under PPL Montana's Market-Based Rate Tariff, FERC Electric Tariff, Original Volume No. 1. The Service Agreement adds UMPA as an eligible customer under the Tariff.

PPL Montana requests an effective date of August 22, 2000 for the Service Agreement.

PPL Montana states that UMPA has been served with a copy of this filing.

Comment date: October 6, 2000, in accordance with Standard Paragraph E at the end of this notice.

16. Commonwealth Chesapeake Company, L.L.C.

[Docket No. ER00-3703-000]

Take notice that on September 14, 2000, Commonwealth Chesapeake Company, L.L.C., tendered for filing a service agreement designated as Original Service Agreement No. 1 under FERC Electric Tariff, Second Revised Volume No. 1.

Comment date: October 5, 2000, in accordance with Standard Paragraph E at the end of this notice.

17. Avista Corp.

[Docket No. ER00-3704-000]

Take notice that on September 15, 2000, Avista Corp., tendered for filing with the Federal Energy Regulatory Commission pursuant to Section 35.13 of the Commission's Regulations, 18 CFR 35.13, a consent to an assignment by Montana Power Trading & Marketing Company of its rights and obligations under Avista Corp.'s Service Agreement No. 162, filed in Docket No. ER98-4282-000, to Montana Power Company. Following the assignment, Avista Corp., will sell capacity and energy under the service agreement to Montana Power Company pursuant to Avista Corp.'s FERC Electric Tariff Volume No. 9.

Comment date: October 6, 2000, in accordance with Standard Paragraph E at the end of this notice.

18. El Paso Electric Company, El Paso Electric Generating Company, El Paso Transmission and Distribution Company,

[Docket No. ES00-46-001]

Take notice that on September 15, 2000, El Paso Electric Company, El Paso Electric Generating Company, and El Paso Transmission and Distribution Company submitted an amendment to their application. Attached as Exhibit E to the application was an Intercompany Agreement, which allocated responsibility for the repayment of First Mortgage Bonds. The Applicants amend their filing to substitute a revised copy of the Intercompany Agreement.

Comment date: October 4, 2000, in accordance with Standard Paragraph E at the end of this notice.

19. American Electric Power Service Corporation on behalf of: Appalachian Power Company, et al., FirstEnergy Corp. on behalf of: The Cleveland Electric Illuminating Company, Ohio Edison Company, et al., Pennsylvania Power Company, The Toledo Edison Company, Virginia Electric and Power Company

[Docket Nos. ER99-3144-004 and EC99-80-004 (not consolidated)]

Take notice that on September 15, 2000, the Alliance Companies American Electric Power Service Corporation (on behalf of Appalachian Power Company, Indiana Michigan Power Company, Kentucky Power Company, Kingsport Power Company, Ohio Power Company and Wheeling Power Company), Consumers Energy Company, The Detroit Edison Company, FirstEnergy Corp. (on behalf of The Cleveland Electric Illuminating Company, Ohio Edison Company, Pennsylvania Power Company and The Toledo Edison Company) and Virginia Electric and Power Company submitted a transmittal letter and three volume set of documents in compliance with the Federal Energy Regulatory Commission's (Commission) December 20, 1999 Order on Proposed Disposition and Related Rate Filings (December 20, 1999 Order) and the Commission's May 18, 2000 Order on Compliance Filing and Requests for Rehearing and Clarification (May 18, 2000 Order) in the above-referenced proceedings.

The filing includes revisions to the Applicants' proposal to create the Alliance RTO in the form of Alliance Transco. Alliance Transco will be formed as a limited liability company (LLC) that will be controlled and managed by its managing member, an independent entity with no affiliation with a market participant. The filing also includes a proposed rate design methodology that eliminates multiple transmission access charges, as directed by the Commission, and a proposed Alliance RTO Open Access Transmission Tariff (OATT) reflecting terms and conditions in compliance with the December 20, 1999 Order and the May 18, 2000 Order.

Comment date: October 6, 2000, in accordance with Standard Paragraph E at the end of this notice.

20. Sithe Edgar LLC et al.

[Docket No. ER00-3691-000]

Take notice that on September 14, 2000, Sithe Edgar LLC, Sithe New Boston LLC, Sithe Framingham LLC, Sithe West Medway LLC, Sithe Wyman LLC, Sithe Mystic LLC, AG-Energy, L.P., Power City Partners, L.P., Seneca Power Partners, L.P., Sterling Power Partners, L.P., Sithe Power Marketing, L.P. and Sithe Power Marketing, Inc. (together, the Sithe Jurisdictional Affiliates), tendered for filing a Notification of Change in Status and Petition for Acceptance of Pro Forma Revised Rate Schedules and Supplements, by which the Sithe Jurisdictional Affiliates provide notice that upon the closing of the sale of 49.9 percent of the outstanding stock of Sithe Energies, Inc. to Exelon (Fossil) Holdings, L.L.C. the Sithe Jurisdictional Affiliates will be affiliated with an electric utility with a franchised service territory. Due to the affiliation post-transaction with a traditional electric utility, the Sithe Jurisdictional Affiliates are submitting for filing pro forma revised FERC Electric Rate Schedules Nos. 1 and 2 and Codes of Conduct.

Comment date: October 5, 2000, in accordance with Standard Paragraph E at the end of this notice.

Standard Paragraphs

E. Any person desiring to be heard or to protest such filing should file a motion to intervene or protest with the Federal Energy Regulatory Commission, 888 First Street, N.E., Washington, D.C. 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/ online/rims.htm (call 202-208-2222 for assistance).

David P. Boergers,
Secretary.

[FR Doc. 00-24720 Filed 9-26-00; 8:45 am]

BILLING CODE 6717-01-P